DEPARTMENT OF HEALTH AND HUMAN SERVICES

45 CFR Part 156

Health Insurance Issuer Standards Under the Affordable Care Act, Including Standards Related to Exchanges

CFR Correction

In Title 45 of the Code of Federal Regulations, Parts 1 to 199, revised as of October 1, 2014, on page 933, in § 156.285, reinstate paragraph (d)(2) after paragraph (d)(1)(iii)(B) to read as follows:

§ 156.285 Additional standards specific to SHOP. [Corrected]

* * * * *

(d) * * *

(2) If a qualified employer chooses to withdraw from participation in the SHOP, the QHP issuer must terminate coverage for all enrollees of the withdrawing qualified employer.

* * * * *

[FR Doc. 2015-09681 Filed 4-29-15; 8:45 am]

BILLING CODE 1505-01-D